DEPARTMENT OF JUSTICE

Antitrust Division

Notice Pursuant to the National Cooperative Research and Production Act of 1993—LiMo Foundation

Notice is hereby given that, on September 8, 2009, pursuant to Section 6(a) of the National Cooperative Research and Production Act of 1993, 15 U.S.C. 4301 et seq. (“the Act”), LiMo Foundation (“LiMo”) filed written notifications simultaneously with the Attorney General and the Federal Trade Commission disclosing changes in its membership. The notifications were filed for the purpose of extending the Act's provisions limiting the recovery of antitrust plaintiffs to actual damages under specified circumstances. Specifically, Casio Hitachi Mobile Communications Co., Ltd., Tokyo, Japan; Aromasoft Corporation, Seoul, Republic of Korea; Swisscom (Schweiz) AG, Bern, Switzerland; Opera Software ASA, Oslo, Norway; and Immersion Corporation, San Jose, CA, have been added as parties to this venture.

Also, Advanced Micro Devices Inc., Markham, Ontario, Canada; Infineon Technologies AG, Neubiberg, Germany; VirtualLogix, Inc., Sunnyvale, CA; FueTrek Co., Ltd., Osaka, Japan; Innopath Software Inc., Sunnyvale, CA; Cellon Communications Technology (Shenzhen) Co., Ltd., Shenzhen, People's Republic of China; Esmertec AG, Dubendorf, Switzerland; Freescale Semiconductor, Inc., Austin, TX; Shanghai Longcheer 3G Technology Co., Ltd., Shanghai, People's Republic of China; MIZI Research Incorporated, Seoul, Republic of Korea; MontaVista Software, Inc., Santa Clara, CA; NXP Semiconductors B.V., Eindhoven, The Netherlands; TroilTech ASA, Oslo, Norway; and Sagem Mobiles, Cergy St Christophe Cedex, France, have withdrawn as parties to this venture.

No other changes have been made in either the membership or planned activity of this group research project. Membership in this group research project remains open, and LiMo intends to file additional written notifications disclosing all changes in membership.

On March 1, 2007, LiMo filed its original notification pursuant to Section 6(a) of the Act. The Department of Justice published a notice in the Federal Register pursuant to Section 6(b) of the Act on April 9, 2007 (72 FR 17583).

The last notification was filed with the Department on January 5, 2009. A notice was published in the Federal Register pursuant to Section 6(b) of the Act on February 26, 2009 (74 FR 8812).

Patricia A. Brink,
Deputy Director of Operations, Antitrust Division.

[FR Doc. E9-25304 Filed 10-21-09; 8:45 am]

BILLING CODE 4410-11-M